DEPARTMENT OF THE INTERIOR

U.S. Geological Survey

[USGS 11 GX11BC009RU0100]

Agency Information Collection Activities: Comment Request

AGENCY: U.S. Geological Survey (USGS), Interior.

ACTION: Notice of extension of an existing information collection (1028-0056).

SUMMARY: We (the U.S. Geological Survey) will ask the Office of Management and Budget (OMB) to approve the information collection (IC) described below. As required by the Paperwork Reduction Act (PRA) of 1995, and as part of our continuing efforts to reduce paperwork and respondent burden, we invite the general public and other Federal agencies to take this opportunity to comment on this IC. This IC is scheduled to expire on March 31, 2011.

DATES: Submit written comments by February 22, 2011.

ADDRESSES: Please submit a copy of your comments to Phadrea Ponds, Information Collection Clearance Officer, U.S. Geological Survey, 2150-C Centre Avenue, Fort Collins, CO 80526-8118 (mail); 970-226-9445 (phone); 970-226-9230 (fax); or pondsp@usgs.gov (e-mail). Please reference Information Collection 1028-0070 in the subject line.

FOR FURTHER INFORMATION CONTACT: Lisa Zolly at 703-648-4277 or by mail at U.S. Geological Survey, Biological Informatics Office, 12201 Sunrise Valley Drive, MS 302, Reston, VA 20192.

SUPPLEMENTARY INFORMATION:

I. Abstract

Beginning in 1997, the U.S. Geological Survey has collected voluntary data regarding amphibian malformations. Sightings are reported via an electronic form (1028-0056). The form is sent to the USGS National Biological Information Infrastructure (NBII) program, which manages the North American Reporting Center for Amphibian Malformations (NARCAM). Each malformation occurrence submitted is carefully reviewed by trained professional herpetologists for quality and accuracy. Data associated with the validated reports, including species, malformation type, and geospatial information, are made accessible to the public via the NARCAM Web site. Information may be used by scientists and resource managers within Federal, State, and local agencies, as well as the general public, to identify areas where malformed amphibians have been reported, and the rates of occurrence. The NARCAM dataset is the only publicly available, national dataset on amphibian malformations.

We will be requesting OMB approval for an extension of the current form used for the NARCAM data collection efforts.

II. Data

OMB Control Number: 1028-0056.

Title: North American Reporting Center for Amphibian Malformations (NARCAM) Data Collection Form.

Type of Request: Extension of a currently approved collection.

Affected Public: General public, individual households.

Respondent Obligation: Voluntary.

Frequency of Collection: On occasion, one-time.

Estimated Number Annual Respondents: 300.

Annual Burden Hours: 150 hours. We estimate the public reporting burden averages 30 minutes per response.

Estimated Reporting and Recordkeeping “Non-Hour Cost” Burden: We have not identified any “non-hour cost” burdens associated with this collection of information.

III. Request for Comments

We are soliciting comments as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that the comments submitted in response to this notice are a matter of public record. We will include or summarize each comment in our request to OMB to approve this IC. Before including your address, phone number, e-mail address, or other personal identifying information in your comment, you should be aware that your entire comment, including your personal identifying information, may be made publicly available at any time. While you can ask OMB in your comment to withhold your personal identifying information from public review, we cannot guarantee that it will be done.

Dated: December 2, 2010.
Kevin Gallagher,
Associate Director for Core Science Systems, U.S. Geological Survey.

[FR Doc. 2010-32081 Filed 12-21-10; 8:45 am]

BILLING CODE 4311-AM-P